DEPARTMENT OF AGRICULTURE

Agricultural Marketing Service

[Docket Number: FV-02-336]

United States Standards for Grades of Grapefruit Juice

AGENCY: Agricultural Marketing Service, USDA.

ACTION: Notice; request for public comment.

SUMMARY: The Agricultural Marketing Service (AMS), prior to undertaking research and other work associated with revising an official grade standard, is soliciting comments on the petition to change the United States Standards for Grades of Grapefruit Juice. AMS received a petition from the Indian River Citrus League asking USDA to consider replacing the current Grade “A” minimum standard with content of proposed the Florida Department of Citrus “Gold Standard''.

DATES: Comments must be submitted on or before August 9, 2002.

ADDRESSES: Interested persons are invited to submit written comments concerning this notice. Comments must be sent to Karen L. Kaufman, Standardization Section, Processed Products Branch, Fruit and Vegetable Programs, Agricultural Marketing Service, U.S. Department of Agriculture, 1400 Independence Avenue SW., Room 0709, South Building; STOP 0247, Washington, DC 20250; Fax (202) 690-1527, e-mail Karen.Kaufman@usda.gov. The United States Standards for Grades of Grapefruit Juice is available either through the address cited above or by accessing the AMS Home Page on the Internet at http://www.ams.usda.gov/fv/ppb.html.

SUPPLEMENTARY INFORMATION:

Background

AMS received a petition from Indian River Citrus League requesting the revision of the United States Standards for Grades of Grapefruit Juice. The standards are established under the authority of the Agricultural Marketing Act of 1946 (7 U.S.C. 1621-1627). The petitioner represents growers on Florida's East Coast, along the Indian River called the Indian River District. Only grapefruit grown in this area can be labeled ‘Indian River Grapefruit'.

The petitioner is requesting that USDA replace the current Grade “A” minimum standards with the content of the “Gold Standard” as proposed by the Florida Department of Citrus. The “Gold Standard” proposes that grapefruit juice have the following analytical requirements: Brix: minimum 9.5°, and a maximum 10.7°; Acid: minimum 0.85, maximum 1.20; Brix/Acid Ratio: minimum 9.0:1, maximum 11.0:1; and Limonin (ppm): minimum 3.5, maximum 5.5; Naringin (ppm) minimum 300, maximum 650.

The standard for grapefruit (unsweetened) juice is based on score points for Grade “A” and “B”. The quality factors scored are for color, defects and flavor. Analytical factors for Grade “A” Brix: minimum 9.0°; Brix/Acid ratio: minimum 8.0:1, maximum 14.0:1; free and suspended pulp (percent by volume): maximum 10 and recoverable oil (percent by volume): .020.

The petitioner believes changing the standard will improve the quality of grapefruit juice produced, therefore increasing overall consumption.

Agricultural Marketing Service

Prior to undertaking detailed work to develop a proposed revised standard AMS is soliciting for comment on the petition submitted by the Indian River Citrus League to change the standard for Grades of Grapefruit Juice. In particular, AMS would welcome comments and information regarding the likely utility of a new grade standard for grapefruit juice and the probable impact on consumers, processors, and growers.

This notice provides for a 60 day comment period for interested parties to comment on changes to the standard. Should AMS conclude that there is a substantial interest in the proposal, the Agency will develop a proposed new standard that will be published in the Federal Register with a request for comments in accordance with 7 CFR Part 36.

Dated: June 4, 2002.
A.J. Yates,
Administrator, Agricultural Marketing Service.

[FR Doc. 02-14454 Filed 6-7-02; 8:45 am]

BILLING CODE 3410-02-P